DEPARTMENT OF ENERGY

Federal Energy Regulatory Commission

Combined Notice of Filings

Take notice that the Commission has received the following Natural Gas Pipeline Rate and Refund Report filings:

Docket Numbers: RP21-294-000.

Applicants: Eastern Gas Transmission and Storage, Inc.

Description: § 4(d) Rate Filing: Eastern GTS—Baseline Filing of FERC Gas Tariff, Volume Nos. 1, 1B, and 2 to be effective 12/3/2020.

Filed Date: 12/3/20.

Accession Number: 20201203-5006.

Comments Due: 5 p.m. ET 12/15/20.

Docket Numbers: RP21-295-000.

Applicants: Eastern Gas Transmission and Storage, Inc.

Description: Tariff Cancellation: EGTS—Cancellation of FERC Gas Tariff, Volume Nos, 1, 1B and 2 to be effective 12/3/2020.

Filed Date: 12/3/20.

Accession Number: 20201203-5030.

Comments Due: 5 p.m. ET 12/15/20.

Docket Numbers: RP21-296-000.

Applicants: Cove Point LNG, LP.

Description: § 4(d) Rate Filing: Cove Point—Baseline Filing of FERC Gas Tariff to be effective 12/3/2020.

Filed Date: 12/3/20.

Accession Number: 20201203-5039.

Comments Due: 5 p.m. ET 12/15/20.

Docket Numbers: RP21-297-000.

Applicants: Carolina Gas Transmission, LLC.

Description: § 4(d) Rate Filing: CGT—Baseline Filing of FERC Gas Tariff to be effective 12/3/2020.

Filed Date: 12/3/20.

Accession Number: 20201203-5041.

Comments Due: 5 p.m. ET 12/15/20.

Docket Numbers: RP21-298-000.

Applicants: Cove Point LNG, LP.

Description: Tariff Cancellation: Cove Point—Cancellation of FERC Gas Tariff to be effective 12/3/2020.

Filed Date: 12/3/20.

Accession Number: 20201203-5057.

Comments Due: 5 p.m. ET 12/15/20.

Docket Numbers: RP21-299-000.

Applicants: Carolina Gas Transmission, LLC.

Description: Tariff Cancellation: Carolina Gas—Cancellation of FERC Gas Tariff to be effective 12/3/2020.

Filed Date: 12/3/20.

Accession Number: 20201203-5061.

Comments Due: 5 p.m. ET 12/15/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 4, 2020.
Kimberly D. Bose,
Secretary.

[FR Doc. 2020-27131 Filed 12-9-20; 8:45 am]

BILLING CODE 6717-01-P